SMALL BUSINESS ADMINISTRATION

[Disaster Declaration #18236 and #18237; ALASKA Disaster Number AK-00061]

Administrative Declaration of a Disaster for the State of Alaska

AGENCY: U.S. Small Business Administration.

ACTION: Notice.

SUMMARY: This is a notice of an Administrative declaration of a disaster for the State of Alaska dated 10/06/2023.

Incident: Glacier Outburst Flooding.

Incident Period: 08/04/2023 through 08/06/2023.

DATES: Issued on 10/06/2023.

Physical Loan Application Deadline Date: 12/05/2023.

Economic Injury (EIDL) Loan Application Deadline Date: 07/08/2024.

ADDRESSES: Submit completed loan applications to: U.S. Small Business Administration, Processing and Disbursement Center, 14925 Kingsport Road, Fort Worth, TX 76155.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the Administrator's disaster declaration, applications for disaster loans may be filed at the address listed above or other locally announced locations.

The following areas have been determined to be adversely affected by the disaster:

Primary Counties: City and Borough of Juneau.

Contiguous Counties:

Alaska: Chatham REAA, Haines Borough, Petersburg Borough.

The Interest Rates are:

| Percent
For Physical Damage:
Homeowners with Credit Available Elsewhere | 5.000
Homeowners without Credit Available Elsewhere | 2.500
Businesses with Credit Available Elsewhere | 8.000
Businesses without Credit Available Elsewhere | 4.000
Non-Profit Organizations with Credit Available Elsewhere | 2.375
Non-Profit Organizations without Credit Available Elsewhere | 2.375
For Economic Injury:
Businesses & Small Agricultural Cooperatives without Credit Available Elsewhere | 4.000
Non-Profit Organizations without Credit Available Elsewhere | 2.375

The number assigned to this disaster for physical damage is 18236 6 and for economic injury is 18237 0.

The State which received an EIDL Declaration # is Alaska.

(Catalog of Federal Domestic Assistance Number 59008)

Isabella Guzman,
Administrator.

[FR Doc. 2023-22644 Filed 10-12-23; 8:45 am]

BILLING CODE 8026-09-P